DEPARTMENT OF ENERGY

Federal Energy Regulatory Commission

[Docket No. EC01-56-000]

Merrill Lynch Capital Services, Inc.; Notice of Filing

January 23, 2001.

Take notice that on January 12, 2001, Applicants filed with the Federal Energy Regulatory Commission an application pursuant to section 203 of the Federal Power Act for authorization of a disposition of jurisdictional facilities whereby Merrill Lynch Capital Services, Inc. (MLCS) will: (1) Dispose of jurisdictional facilities by way of a sale and assignment of the right, title, obligation, and interest in certain of its wholesale electric power sales agreements and associated intellectual property, books and records to Allegheny Energy Global Markets, LLC (Allegheny Global), a newly formed and wholly-owned subsidiary of Allegheny Energy Supply Company, LLC (Allegheny Supply); and (2) transfer to MLCS membership interests in Allegheny Supply as part of that disposition.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before February 2, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

David P. Boergers,
Secretary.

[FR Doc. 01-2432 Filed 1-26-01; 8:45 am]

BILLING CODE 6717-01-M